SECURITIES AND EXCHANGE COMMISSION

[File No. 500-1]

AP Henderson Group, BPO Management Services, Inc., Capital Mineral Investors, Inc., CardioVascular BioTherapeutics, Inc., and 1st Centennial Bancorp; Order of Suspension of Trading

April 12, 2012.

It appears to the Securities and Exchange Commission that there is a lack of current and accurate information concerning the securities of AP Henderson Group because it has not filed any periodic reports since the period ended September 30, 2005.

It appears to the Securities and Exchange Commission that there is a lack of current and accurate information concerning the securities of BPO Management Services, Inc. because it has not filed any periodic reports since the period ended September 30, 2009.

It appears to the Securities and Exchange Commission that there is a lack of current and accurate information concerning the securities of Capital Mineral Investors, Inc. because it has not filed any periodic reports since the period ended September 30, 2008.

It appears to the Securities and Exchange Commission that there is a lack of current and accurate information concerning the securities of CardioVascular BioTherapeutics, Inc. because it has not filed any periodic reports since the period ended September 30, 2008.

It appears to the Securities and Exchange Commission that there is a lack of current and accurate information concerning the securities of 1st Centennial Bancorp because it has not filed any periodic reports since the period ended September 30, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on April 12, 2012, through 11:59 p.m. EDT on April 25, 2012.

By the Commission.
Jill M. Peterson,
Assistant Secretary.

[FR Doc. 2012-9170 Filed 4-12-12; 4:15 pm]

BILLING CODE 8011-01-P